DEPARTMENT OF JUSTICE

Drug Enforcement Administration

[Docket No. DEA-392]

Importer of Controlled Substances Registration

ACTION: Notice of registration.

SUMMARY: The applicant listed below has submitted an application for registration to the Drug Enforcement Administration (DEA) to become an importer of a schedule I controlled substance.

SUPPLEMENTARY INFORMATION: The company listed below applied to be registered as an importer of a basic class of controlled substance. Information on the previously published notice is listed in the table below. No comments or objections were submitted and no requests for a hearing were submitted for this notice.

Company | FR docket | Published
Almac Clinical Services Incorp (ACSI) | 84 FR 3253 | February 11, 2019.

The DEA has considered the factors in 21 U.S.C. 823, 952(a) and 958(a) and determined that the registration of the listed applicant to import the applicable basic class of schedule I controlled substance is consistent with the public interest and with United States obligations under international treaties, conventions, or protocols in effect on May 1, 1971. The DEA investigated the company's maintenance of effective controls against diversion by inspecting and testing the company's physical security system, verifying the company's compliance with state and local laws, and reviewing the company's background and history.

Therefore, pursuant to 21 U.S.C. 952(a) and 958(a), and in accordance with 21 CFR 1301.34, the DEA has granted a registration as an importer of a schedule I controlled substance to the above listed company.

Dated: March 21, 2019.
John J. Martin,
Assistant Administrator.

[FR Doc. 2019-06845 Filed 4-5-19; 8:45 am]

BILLING CODE 4410-09-P